DEPARTMENT OF COMMERCE

National Oceanic and Atmospheric Administration

50 CFR Part 648

[Docket No. 011005245-2012-02; I.D. 041802A]

Fisheries of the Northeastern United States; Atlantic Herring Fishery; Total Allowable Catch Harvested for Period 1 in Management Area 1A

AGENCY: National Marine Fisheries Service (NMFS), National Oceanic and Atmospheric Administration (NOAA), Commerce.

ACTION: Closure of directed fishery for Management Area 1A.

SUMMARY: NMFS announces that 95 percent of the Atlantic herring total allowable catch (TAC) allocated to Management Area 1A (Area 1A) for the first seasonal period of the fishing year 2002 has been harvested. Therefore, federally permitted vessels may not fish for, catch, possess, transfer or land more than 2,000 lb (907.2 kg) of Atlantic herring harvested from Area 1A per trip or calendar day until June 1, 2002, when the second seasonal period TAC becomes available. Regulations governing the Atlantic herring fishery require publication of this notification when 95 percent of the Atlantic herring TAC allocated to first seasonal period in Area 1A has been harvested to advise vessel and dealer permit holders that no TAC is available for the directed fishery for Atlantic herring harvested from Area 1A.

DATES: Effective 0001 hrs local time, April 26, 2002, through 2400 hrs local time, May 31, 2002.

FOR FURTHER INFORMATION CONTACT: Myles Raizin, Fishery Policy Analyst, at (978) 281-9104.

SUPPLEMENTARY INFORMATION: Regulations governing the Atlantic herring fishery are found at 50 CFR part 648. The regulations require annual specification of optimum yield, domestic and foreign fishing, domestic and joint venture processing, and management area TACs. The Atlantic herring specifications for fishing year 2002 were published in the Federal Register on January 24, 2002 (67 FR 3442). Framework 1 to the Atlantic Herring FMP was published in the Federal Register on January 24, 2002 (67 FR 3445). This action modified the specification of herring quota for Management Area 1A by establishing two quota periods. This action modified the 2002 Area 1A TAC of 60,000 mt by allocating 6,000 mt (13,224,000 lb) to the January - May period, leaving 54,000 mt for the June-December period.

The regulations at 50 CFR 648.202 require the Administrator, Northeast Region, NMFS (Regional Administrator) to monitor the Atlantic herring fishery in each of the four management areas designated in the FMP and, based upon dealer reports, state data, and other available information, to determine when the harvest of Atlantic herring is projected to reach 95 percent of the Period 1 TAC (5,700 mt; 12,562,800 lb) allocated to Area 1A. When such a determination is made, NMFS is required to publish notification in the Federal Register notifying vessel and dealer permit holders that, effective upon a specific date, vessels may not fish for, catch, possess, transfer or land more than 2,000 lb (907.2 kg) of herring per trip or calendar day from Area 1 until June 1, 2002, when the second seasonal period TAC becomes available.

The Regional Administrator has determined, based upon dealer reports and other available information, that 95 percent of the Atlantic herring TAC allocated to Area 1A for Period 1 of fishing year 2002 has been harvested. Therefore, effective 0001 hrs local time, April 26, 2002, federally permitted vessels may not fish for, catch, possess, transfer or land more than 2,000 lb (907.2 kg) of Atlantic herring harvested from Area 1A per trip or calendar day until the second seasonal period TAC becomes available at 0001 hrs, June 1, 2002. Vessels may transit an area that is limited to the 2,000-lb (907.2-kg) limit with more than 2,000 lb (907.2 kg) of herring on board, providing all fishing gear is stowed and not available for immediate use, as required by § 648.23(b). A vessel may land herring in an area that is limited to the 2,000-lb (907.2-kg) limit specified in § 648.202(a) with more than 2,000 lb (907.2 kg) of herring on board, providing such herring were caught in an area or areas not subject to the 2,000-lb (907.2-kg) limit and providing all fishing gear is stowed and not available for immediate use as required by § 648.23(b). Effective April 26, 2002, federally permitted dealers are also advised that they may not purchase Atlantic herring from federally permitted Atlantic herring vessels that harvest more than 2,000 lb (907.2 kg) of Atlantic herring from Area 1A through June 1, 2002, 0001 hrs local time.

Classification

This action is required by 50 CFR part 648 and is exempt from review under E.O. 12866.

Authority: 16 U.S.C. 1801 et seq.

Dated: April 18, 2002.
Bruce C. Morehead,
Acting Director, Office of Sustainable Fisheries, National Marine Fisheries Service.

[FR Doc. 02-9953 Filed 4-18-02; 3:26 pm]

BILLING CODE 3510-22-S